FEDERAL COMMUNICATIONS COMMISSION

47 CFR Part 73

[DA 05-310; MB Docket No. 05-46, RM-11156; MB Docket No. 05-47 RM-11157]

Radio Broadcasting Services; Hornbeck, LA; Tennessee Colony, TX

AGENCY: Federal Communications Commission.

ACTION: Proposed rule.

SUMMARY: This document sets forth two proposals to amend the FM Table of Allotments, § 73.202(b) of the Commission's rules, 47 CFR 73.202(b). The Commission requests comment on a petition filed by Charles Crawford. Petitioner proposes the allotment of Channel 269A at Hornbeck, Louisiana, as a first local service. Channel 269A can be allotted at Hornbeck in compliance with the Commission's minimum distance separation requirements with a site restriction of 7.2 km (4.5 miles) west of Hornbeck. The proposed coordinates for Channel 269A at Hornbeck are 31-18-42 North Latitude and 93-28-12 West Longitude. See SUPPLEMENTARY INFORMATION infra.

DATES: Comments must be filed on or before March 31, 2005, and reply comments on or before April 15, 2005.

ADDRESSES: Federal Communications Commission, Washington, DC 20554. In addition to filing comments with the FCC, interested parties should serve the petitioner as follows: Charles Crawford, 4553 Bordeaux Avenue, Dallas, Texas 75205.

FOR FURTHER INFORMATION CONTACT: Deborah A. Dupont, Media Bureau (202) 418-7072.

SUPPLEMENTARY INFORMATION: This is a synopsis of the Commission's Notice of Proposed Rule Making, MB Docket Nos. 05-46 and 05-47, adopted February 2, 2005, and released February 7, 2005. The full text of this Commission decision is available for inspection and copying during normal business hours in the FCC Reference Information Center (Room CY-A257), 445 12th Street, SW., Washington, DC. The complete text of this decision may also be purchased from the Commission's copy contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Commission further requests comment on a petition filed by Charles Crawford. Petitioner proposes the allotment of Channel 300A at Tennessee Colony, Texas, as a first local service. Channel 300A can be allotted at Tennessee Colony in compliance with the Commission's minimum distance separation requirements with a site restriction of 5.0 km (3.1 miles) northeast of Tennessee Colony. The proposed coordinates for Channel 300A at Tennessee Colony are 31-51-38 North Latitude and 95-47-49 West Longitude.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Louisiana, is amended by adding Hornbeck, Channel 269A.

3. Section 73.202(b), the Table of FM Allotments under Texas, is amended by adding Tennessee Colony, Channel 300A.

Federal Communications Commission.
John A. Karousos,
Assistant Chief, Audio Division, Media Bureau.

[FR Doc. 05-3314 Filed 2-18-05; 8:45 am]

BILLING CODE 6712-01-P